ENVIRONMENTAL PROTECTION AGENCY

[EPA-HQ-OPP-2017-0750; FRL-9997-17]

Registration Review Proposed Interim Decisions for Several Pesticides; Notice of Availability

AGENCY: Environmental Protection Agency (EPA).

ACTION: Notice.

SUMMARY: This notice announces the availability of EPA's proposed interim registration review decisions and opens a 60-day public comment period on the proposed interim decisions for the following pesticides: 2,4-DB, 3-Methyl-2-cyclohexen-1-one, alkyl imidazolines, bromoxynil, dikegulac sodium, fluthiacet-methyl, imazalil, inorganic polysulfides (also known as lime sulfur), IR3535, linuron, octenol, o-benzyl-p-chlorophenol, p-Menthane-3,8-diol (PMD), pyridaben, starlicide, uniconazole-P, tri-n butyl tetradecyl phosphonium chloride, zinc and zinc salts, and zoxamide. This notice also announces the availability of EPA's human health and ecological risk assessments for the pesticides alkyl imidazolines, uniconazole-P, dikegulac sodium (ecological risk assessment only), and zoxamide, and opens a 60-day public comment period on the risk assessments.

DATES: Comments must be received on or before September 30, 2019.

ADDRESSES: Submit your comments, identified by the docket identification (ID) number for the specific pesticide of interest provided in the Table in Unit IV., by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For pesticide specific information, contact: The Chemical Review Manager for the pesticide of interest identified in the Table in Unit IV.

For general questions on the registration review program, contact: Melanie Biscoe, Pesticide Re-Evaluation Division (7508P), Office of Pesticide Programs, Environmental Protection Agency, 1200 Pennsylvania Ave. NW, Washington, DC 20460-0001; telephone number: (703) 305-7106; email address: biscoe.melanie@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in the Table in Unit IV.

B. What should I consider as I prepare my comments for EPA?

1. Submitting CBI. Do not submit this information to EPA through regulations.gov or email. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

Registration review is EPA's periodic review of pesticide registrations to ensure that each pesticide continues to satisfy the statutory standard for registration, that is, the pesticide can perform its intended function without unreasonable adverse effects on human health or the environment. As part of the registration review process, the Agency has completed proposed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's proposed interim registration review decisions for the pesticides shown in the following table, and opens a 60-day public comment period on the proposed interim decisions. This notice also announces the availability of EPA's human health and ecological risk assessments for the pesticides alkyl imidazolines, uniconazole-P, dikegulac sodium (ecological risk assessment only), and zoxamide, and opens a 60-day public comment period on the risk assessments.

Registration review case name and No. | Docket ID No. | Chemical review manager and contact information
2,4-DB. Case 0196 | EPA-HQ-OPP-2013-0661 | Samantha Thomas, thomas.samantha@epa.gov, (703) 347-0514.
3-Methyl-2-cyclohexen-1-one. Case Number 6074 | EPA-HQ-OPP-2014-0671 | Joseph Mabon, mabon.joseph@epa.gov,(703) 347-0177.
Alkyl Imidazolines. Case 3010 | EPA-HQ-OPP-2011-0620 | Kim Wilson, wilson.kimberly@epa.gov, (703) 347-0495.
Bromoxynil and Bromoxynil Esters. Case 2070 | EPA-HQ-OPP-2012-0896 | Tiffany Green, green.tiffany@epa.gov, (703) 347-0314.
Dikegulac Sodium. Case 3061 | EPA-HQ-OPP-2014-0771 | Jonathan Williams, williams.jonathanr@epa.gov, (703) 347-0670.
Fluthiacet-methyl. Case Number 7280 | EPA-HQ-OPP-2013-0285 | Eric Fox, fox.eric@epa.gov, (703) 347-0104.
Imazalil and Imazalil Sulfate. Case Number 2325 | EPA-HQ-OPP-2013-0305 | Michelle Nolan, nolan.michelle@epa.gov, (703) 347-0258.
Inorganic Polysulfides. (also known as Lime Sulfur). Case Number 4054 | EPA-HQ-OPP-2016-0102 | Katherine St. Clair, stclair.katherine@epa.gov, (703) 347-8778.
IR3535. Case Number 6046 | EPA-HQ-OPP-2014-0106 | Alexandra Boukedes, boukedes.alexandra@epa.gov, (703) 347-0305.
Linuron. Case Number 0047 | EPA-HQ-OPP-2010-0228 | Katherine St. Clair, stclair.katherine@epa.gov, (703) 347-8778.
o-benzyl-p-chlorophenol. Case Number 2045 | EPA-HQ-OPP-2011-0423 | Erin Dandridge, dandridge.erin@epa.gov, (703) 347-0185.
Octenol.Case Number 6033 | EPA-HQ-OPP-2012-0940 | Joseph Mabon, mabon.joseph@epa.gov,(703) 347-0177.
p-Menthane-3,8-diol (PMD). Case Number 6017 | EPA-HQ-OPP-2015-0693 | Susanne Cerrelli, cerrelli.susanne@epa.gov, (703) 308-8077.
Pyridaben. Case Number 7417 | EPA-HQ-OPP-2010-0214 | Steven R. Peterson, peterson.stevenr@epa.gov, (703) 347-0755.
Starlicide. Case Number 2610 | EPA-HQ-OPP-2011-0696 | Nathan Sell, sell.nathan@epa.gov, (703) 347-8020.
Tri-N Butyl Tetradecyl Phosphonium Chloride (TTPC). Case Number 5111 | EPA-HQ-OPP-2011-0952 | Daniel Halpert, halpert.daniel@epa.gov,(703) 347-0133.
Uniconazole-P. Case 7007 | EPA-HQ-OPP-2015-0729 | Susan Bartow, bartow.susan@epa.gov,(703) 603-0065.
Zinc and Zinc Salts. Case Number 4099 | EPA-HQ-OPP-2009-0011 | Michael McCarroll, mccarroll.michael@epa.gov, (703) 347-0147.
Zoxamide. Case Number 7032 | EPA-HQ-OPP-2014-0391 | Jocelyn Hospital, hospital.jocelyn@epa.gov, (703) 347-0756.

The registration review docket for a pesticide includes earlier documents related to the registration review case. For example, the review opened with a Preliminary Work Plan, for public comment. A Final Work Plan was placed in the docket following public comment on the Preliminary Work Plan.

The documents in the dockets describe EPA's rationales for conducting additional risk assessments for the registration review of the pesticides included in the table in Unit IV, as well as the Agency's subsequent risk findings and consideration of possible risk mitigation measures. These proposed interim registration review decisions are supported by the rationales included in those documents. Following public comment, the Agency will issue interim or final registration review decisions for the pesticides listed in the table in Unit IV.

The registration review final rule at 40 CFR 155.58(a) provides for a minimum 60-day public comment period on all proposed interim registration review decisions. This comment period is intended to provide an opportunity for public input and a mechanism for initiating any necessary amendments to the proposed interim decision. All comments should be submitted using the methods in ADDRESSES and must be received by EPA on or before the closing date. These comments will become part of the docket for the pesticides included in the Table in Unit IV. Comments received after the close of the comment period will be marked “late.” EPA is not required to consider these late comments.

The Agency will carefully consider all comments received by the closing date and may provide a “Response to Comments Memorandum” in the docket. The interim registration review decision will explain the effect that any comments had on the interim decision and provide the Agency's response to significant comments.

Background on the registration review program is provided at: http://www.epa.gov/pesticide-reevaluation.

Authority: 7 U.S.C. 136 et seq.

Dated: July 24, 2019.
Mary Reaves,
Acting Director, Pesticide Re-Evaluation Division, Office of Pesticide Programs.

[FR Doc. 2019-16315 Filed 7-30-19; 8:45 am]

BILLING CODE 6560-50-P